DEPARTMENT OF THE INTERIOR

Bureau of Land Management

[WO-100-03-1820-PG]

Science Advisory Board

AGENCY: Bureau of Land Management, Interior.

ACTION: Notice of public meeting.

SUMMARY: In accordance with the Federal Advisory Committee Act of 1972 (FACA), the U.S. Department of the Interior, Bureau of Land Management (BLM), Science Advisory Board will meet as indicated below.

DATES: The meeting will be held July 28, 2003, at BLM's Eugene District Office, 2890 Chad Drive, Eugene, Oregon. The public comment period will begin at approximately 4:30 p.m., and the meeting will adjourn at approximately 5 p.m.

FOR FURTHER INFORMATION, CONTACT: Lee Barkow, Bureau of Land Management, Denver Federal Center, Building 50, P.O. Box 25047, Denver, CO 80225-0047, 303-236-6454.

SUPPLEMENTARY INFORMATION: The Science Advisory Board advises the Secretary of the Interior, through the Bureau of Land Management, on a variety of science issues. At this meeting, topics we plan to discuss include:

Science behind the Northwest Forest Plan,

Health Forest Initiative Update,

Cooperative Forest Ecosystem Research,

Timbered Rock EIS—Example of a Research Alternative,

Science Advisory Board Assignments,

Public Comment.

The agenda is subject to revision.

All meeting are open to the public. The public may present written comments to the Board. Each formal Board meeting will also have time allocated for hearing public comments. Depending on the number of persons wishing to comment and time available, the time for individual oral comments may be limited. Individuals who plan to attend and need special assistance, such as sign language interpretation, tour transportation, or other reasonable accommodations, should contact the BLM as provided in FOR FURTHER INFORMATION, CONTACT.

Dated: June 23, 2003.
Lee Barkow,
Director, National Science and Technology Center.

[FR Doc. 03-16279 Filed 6-26-03; 8:45 am]

BILLING CODE 4310-84-P